DEPARTMENT OF DEFENSE

Office of the Secretary

Strategic Environmental Research and Development Program, Scientific Advisory Board

AGENCY: Department of Defense.

ACTION: Notice.

SUMMARY: This Notice is published in accordance with Section 10(a)(2) of the Federal Advisory Committee Act (Pub. L. 92-463). The topic of the meeting on September 13 is to review continuing research and development projects requesting Strategic Environmental Research and Development Program funds in excess of $1M. The topic of the meetings on September 14-15 are to review new start research and development projects requesting Strategic Environmental Research and Development Program funds in excess of $1M. This meeting is open to the public. Any interested person may attend, appear before, or file statements with the Scientific Advisory Board at the time and in the manner permitted by the Board.

DATES: September 13, 2005 from 8 a.m. to 5:15 p.m. (continuing research and development projects). September 14, 2005 from 8:30 a.m. to 5 p.m. (new start research and development projects). September 15, 2005 from 8:30 a.m. to 3:30 p.m. (new start research and development projects).

ADDRESSES: SERDP Program Office, Conference Facility, 901 North Stuart Street, Suite 804, Arlington, VA 22203.

FOR FURTHER INFORMATION CONTACT: Ms. Misa Jensen, SERDP Program Office, 901 North Stuart Street, Suite 303, Arlington, VA or by telephone at (703) 696-2126.

Dated: August 17, 2005.
Jeannette Owings-Ballard,
OSD Federal Register Liaison Officer, Department of Defense.

[FR Doc. 05-16776 Filed 8-23-05; 8:45 am]

BILLING CODE 5001-06-P